INTERNATIONAL TRADE COMMISSION

[USITC SE-08-025]

Government in the Sunshine Act Meeting Notice; Amendment of Agenda Items for Government in the Sunshine Act Meeting

Agency Holding the Meeting: United States International Trade Commission.

Time and Date: August 15, 2008 at 11 a.m.

Place: Room 101, 500 E Street, SW., Washington, DC 20436, Telephone: (202) 205-2000.

Status: Open to the public.

Background: The Commissioners announced their individual votes in Inv. Nos. 701-TA-452 and 731-TA-1129-1130 (Final) (Raw Flexible Magnets from China and Taiwan) on August 12, 2008, during a public meeting convened under the Sunshine Act. During that meeting, two Commissioners inadvertently issued announcements not fully reflecting their actual votes. Accordingly, in the interests of transparency, the Commissioners have determined to re-announce and clarify their votes in these investigations at a public meeting scheduled for 11 a.m. on Friday, August 15, 2008. On August 12, 2008, the outstanding action jacket listed on the agenda for the meeting of August 15, 2008 (73 FR 46334) (August 8, 2008) cleared the Commission.

Actions: In accordance with 19 CFR 201.37 (b), the following agenda items are being added to the meeting of August 15, 2008 at 11 a.m.:

Agenda Item 5: Inv. Nos. 701-TA-452 and 731-TA-1129-1130 (Final) (Raw Flexible Magnets from China and Taiwan)—clarification and re-vote. (The Commission is currently scheduled to transmit its determinations and Commissioners' opinions to the Secretary of Commerce on or before August 25, 2008.)

Agenda Item 6: Outstanding action jackets: None

In accordance with Commission policy, subject matter listed above, not disposed of at the scheduled meeting, may be carried over to the agenda of the following meeting. Earlier notification of these amendments to the agenda was not possible.

Issued: August 13, 2008.
By order of the Commission.
William R. Bishop,
Hearings and Meetings Coordinator.

[FR Doc. E8-19111 Filed 8-15-08; 8:45 am]

BILLING CODE 7020-02-P